DEPARTMENT OF TRANSPORTATION

National Highway Traffic Safety Administration

[Docket No. NHTSA-2016-0094; Notice 2]

Michelin North America, Inc., Denial of Petition for Decision of Inconsequential Noncompliance

AGENCY: National Highway Traffic Safety Administration (NHTSA), Department of Transportation (DOT).

ACTION: Denial of petition.

SUMMARY: Michelin North America, Inc. (MNA), has determined that certain MNA tires do not fully comply with Federal Motor Vehicle Safety Standard (FMVSS) No. 119, New pneumatic tires for motor vehicles with a GVWR of more than 4,536 kilograms (10,000 pounds) and motorcycles. MNA filed a noncompliance report dated September 1, 2016. MNA then petitioned NHTSA on September 8, 2016, for a decision that the subject noncompliance is inconsequential as it relates to motor vehicle safety.

ADDRESSES: For further information on this decision contact Abraham Diaz, Office of Vehicle Safety Compliance, the National Highway Traffic Safety Administration (NHTSA), telephone (202) 366-5310, facsimile (202) 366-3081.

SUPPLEMENTARY INFORMATION:

I. Overview

Michelin North America, Inc. (MNA), has determined that certain MNA tires do not fully comply with paragraph S6.5(d) of Federal Motor Vehicle Safety Standard (FMVSS) No. 119, New pneumatic tires for motor vehicles with a GVWR of more than 4,536 kilograms (10,000 pounds) and motorcycles. MNA filed a noncompliance report dated September 1, 2016, pursuant to 49 CFR part 573, Defect and Noncompliance Responsibility and Reports. MNA then petitioned NHTSA on September 8, 2016, pursuant to 49 U.S.C. 30118(d) and 30120(h) and their implementing regulations at 49 CFR part 556, for an exemption from the notification and remedy requirements of 49 U.S.C. Chapter 301 on the basis that this noncompliance is inconsequential as it relates to motor vehicle safety.

Notice of receipt of the petition was published, with a 30-day public comment period, on November 10, 2016 in the Federal Register (81 FR 79093). No comments were received. To view the petition and all supporting documents log onto the Federal Docket Management System (FDMS) Web site at: https://www.regulations.gov/. Then follow the online search instructions to locate docket number “NHTSA-2016-0094.”

II. Tires Involved

Affected are approximately 184 Michelin Pilot Power 3 size 180/55ZR17 M/C (73W) replacement motorcycle tires manufactured between April 17, 2016, and May 7, 2016.

III. Noncompliance

MNA describes the noncompliance as the inadvertent omission of the markings designating the maximum load and corresponding inflation pressure for that load, as required by paragraph S6.5(d) of FMVSS No. 119.

IV. Rule Text

Paragraph S6.5(d) of FMVSS No. 119 provides, in pertinent part:

S6.5 Tire markings. Except as specified in this paragraph, each tire shall be marked on each sidewall with the information specified in paragraphs (a) through (j) of this section. . .

(d) The maximum load rating and corresponding inflation pressure of the tire, shown as follows:

(Mark on tires rated for single and dual load): Max load single __kg (__lb) at __kPa (__psi) cold. Max load dual __kg (__lb) at __kPa (__psi) cold.

(Mark on tires rated only for single load): Max load __kg (__lb) at __kPa (__psi) cold. . .

V. Summary of MNA's Petition

MNA described the subject noncompliance and contends that the noncompliance is inconsequential for motor vehicle safety.

In support of its petition, MNA submitted the following reasoning:

A. Installation—The subject tires provide sidewall markings that include the correct industry standard tire size identified as “180/55ZR17 M/C,” the service description identified as “(73W)” using an ISO load index and speed symbol, and the load range identified as Load Range “B.” This properly and precisely identifies the tire for correct installation.

B. Inflation Pressure—MNA points out that the correct application pressures for the front and rear positions are identified on the motorcycle vehicle placard as required by 49 CFR part 567 and in the owner's manual, and these sources are referred to specifically in information published by NHTSA, motorcycle manufacturers, and tire manufacturers. The inflation pressures furnished by the motorcycle manufacturer via these two sources are the pressures that provide the load capacity and the motorcycle manufacturer's intended ride and handling characteristics for the specific motorcycle involved. MNA stressed that the sidewall marking omitted from the tires at issue is not the recommended operating inflation pressure and that this fact is well known to motorcycle owners.

1. For example, MNA observes that NHTSA's online “Motorcycle Safety Tips” specifically refers to the owner's manual and vehicle placard: “Look in your motorcycle owner's manual to find the right PSI (pounds per square inch) of air pressure for your tires. Some bike manufacturers also list this information on the bike itself. Common locations include the swing arm, front fork tubes, inside the trunk, and under the seat.”

2. Additionally, MNA argues that the Motorcycle Industry Council Tire Guide explains, “Check the air pressure when the tires are cold . . . and adjust it according to your motorcycle owner's manual or the tire information label on the chain guard, frame, or swingarm.”

3. Similarly, Michelin's Professional Motorcycle Tire Guide 2016 states: “Use the inflation pressure recommended by the motorcycle manufacturer . . . The proper inflation pressures for your motorcycle tires are shown in your motorcycle owner's manual.”

4. According to MNA, the applicable pressure is also a function of the maximum speed capability of the motorcycle, another reason that the proper source for tire inflation pressure is the motorcycle vehicle placard or owner's manual rather than the tire sidewall.

5. Michelin's Professional Motorcycle Tire Guide 2016 and the Motorcycle Industry Tire Guide both advise not to exceed the pressure marked on the sidewall when setting a usage pressure. MNA also notes, the recommended pressure on the motorcycle vehicle placard and the motorcycle owner's manual conforming to 49 CFR 571.120 will never exceed the sidewall pressure for a properly fitted tire as described above in section “A” (Installation). The tire size, load index, speed symbol, and load range all provide for proper installation. Additionally, MNA states that the sidewall pressure is not a “maximum” pressure. It is the pressure corresponding to the maximum load. For example, Michelin's Professional Motorcycle Tire Guide 2016 advises that the pressure regulator be set at 60 psi for mounting motorcycle tires, and the Michelin motorcycle Web site FAQ's explain that up to 60 psi of pressure can be used to seat beads when mounting motorcycle tires and then adjusted to the recommended pressure found on the vehicle placard or owner's manual. The sidewall pressure corresponding to the maximum load on the subject tire is 290 kPa or 42 psi.

C. Max Load Information—MNA argues that the maximum load value corresponding to the ISO load index on the tire is published in Michelin's Professional Motorcycle Tire Guide 2016 available online, the Motorcycle Industry Council Tire Guide available online, as well as a number of retail sites. The ISO load index of “73” and the designation Load Range “B” that are present on the tire provide load description information, and along with the tire size they provide a clear cross reference to the cited publications that offer the load value in pounds if needed. Again, in MNA's view, the tire size and load range provided are sufficient to assure the tire is appropriate for the motorcycle and the corresponding inflation pressure requirements as a function of speed capability are displayed on the vehicle's placard as well as the owner's manual.

D. Other Markings—MNA notes that all other markings conform to the applicable regulations.

E. Performance—The MNA petition also observes that the subject tire meets all performance requirements of FMVSS No. 119.

MNA concluded by expressing the belief that the subject noncompliance is inconsequential to motor vehicle safety, and that its petition for exemption from providing notification of the noncompliance, as required by 49 U.S.C. 30118, and a remedy for the noncompliance, as required by 49 U.S.C. 30120, should be granted.

NHTSA's Decision

NHTSA's Analysis: NHTSA has reviewed Michelin's petition and has determined that the petitioner has not met the burden of persuasion that the subject noncompliance is inconsequential to motor vehicle safety. Specifically, failing to mark the maximum load and corresponding inflation pressure for that load in both Metric and English units on the sidewall of the tires puts an enormous burden on end users to ensure that the subject tires will be properly installed, used, and serviced in accordance with the tire's maximum capability. In the FMVSS No. 119 final rule (Nov. 13, 1973; 38 FR 31299), the Agency explained the purpose of labeling the subject tires with maximum load and pressure. The final rule states:

The trucking industry questioned the advisability of labeling maximum inflation and load rating on the tire because it appeared to prohibit the adjustment of pressures to road conditions. The purpose of the labeling is to . . . warn the user of the tire's maximum capabilities.”

Furthermore, in the same rulemaking, the Agency provided relief to manufacturers by accepting the commenters' proposal to have the information only required on one side of M/C tires: “Several manufacturers suggested that labeling appear on only one side of a tire when both sides of the tire, as mounted, will be available for inspection. Accordingly, motorcycle tires must now be labeled on one side wall only, . . .

The complete lack of maximum load and corresponding inflation pressure information on the subject Michelin motorcycle tires creates a potential safety hazard to the end users of these tires. NHTSA reiterates that marking tires with the maximum load and corresponding inflation pressure is necessary for achieving the following: (A) Proper installation on the vehicle—in this case a motorcycle, (B) proper inflation pressure even when application pressures for the front and rear positions are identified on the motorcycle vehicle placard or vehicle owner's manual, and (C) proper usage because the tire size, speed symbol, and load index do not adequately or easily convey the maximum load and pressure capability of a tire. Tire size, speed symbol, and load index are indicators that may be useful for technical professionals in the field; however, it is unreasonable to expect a typical end user to identify the maximum load and pressure using only the markings of tire size, speed symbol, and load index. It is far more reasonable to expect the vehicle user to overload a tire without the explicit guidance provided by the required sidewall markings. NHTSA believes it is necessary to label the tire to ensure the end user is adequately informed about the maximum capability of the tire. Failing to provide load and pressure information, both in English and Metric units, presents a safety risk because users are deprived the information needed to properly install, use, and service the tire.

NHTSA's Decision: In consideration of the foregoing, NHTSA finds that MNA has not met its burden of persuasion that the subject FMVSS No. 119 noncompliance is inconsequential to motor vehicle safety. Accordingly, NHTSA hereby denies MNA's petition and MNA is consequently obligated to provide notification of, and a free remedy for, that noncompliance under 49 U.S.C. 30118 and 30120.

Authority: (49 U.S.C. 30118, 30120: delegations of authority at 49 CFR 1.95 and 501.8)

Jeffrey M. Giuseppe,
Acting Associate Administrator, Enforcement.

[FR Doc. 2017-18628 Filed 8-31-17; 8:45 am]

BILLING CODE 4910-59-P